DEPARTMENT OF TRANSPORTATION

Research and Special Programs Administration

[Docket No. RSPA-01-8587; Notice No. 01-04]

Reauthorization of the Federal Hazardous Materials Transportation Law

AGENCY: Research and Special Programs Administration (RSPA), DOT

ACTION: Notice; request for comments.

SUMMARY: The Department of Transportation (“Department” or “we”) is preparing a legislative proposal to reauthorize its hazardous materials transportation safety program. Congress last authorized the program in 1994. In preparing our proposal, we are looking for ways to improve the effectiveness of this important safety program. In this notice, we are requesting ideas and comments from the public, state and local governments, industry, and other interested parties on possible amendments to Federal hazardous materials transportation law (Federal hazmat law), which is the statutory basis for the Department's hazardous materials program. Your ideas and comments will assist us in identifying issues that we may address and evaluate as we prepare a draft reauthorization bill.

DATES: Comments. Submit comments by February 26, 2001. To the extent possible, we will consider comments received after this date.

ADDRESSES: Written comments. Submit comments to the Dockets Management System, U.S. Department of Transportation, 400 Seventh Street, SW, Washington, D.C. 20590-0001. Comments should identify Docket Number RSPA-01-8587 and be submitted in two copies. If you wish to receive confirmation of receipt of your written comments, include a self-addressed, stamped postcard. You may also submit comments by e-mail by accessing the Dockets Management System web site at http://dms.dot.gov and following the instructions for submitting a document electronically.

The Dockets Management System is located on the Plaza level of the Nassif Building at the Department of Transportation at the above address. You can review public dockets there between 9:00 a.m. and 5:00 p.m., Monday through Friday, except federal holidays. You can also review comments on-line at the DOT Dockets Management System web site at http://dms.dot.gov.

FOR FURTHER INFORMATION CONTACT: Edward H. Bonekemper, III, (202) 366-4400, or Nancy E. Machado, (202) 366-4400, Office of the Chief Counsel, Research and Special Programs Administration.

SUPPLEMENTARY INFORMATION:

I. Background

A. Federal Hazardous Materials Transportation Law

In this notice, we are asking stakeholders in DOT's hazardous materials transportation safety program for their ideas on ways to improve that program through statutory changes. We will consider all stakeholder comments as we develop our legislative proposal.

Federal hazmat law forms the statutory foundation of the Department's hazardous materials transportation safety program. Federal hazmat law, codified at 49 U.S.C. 5101 et seq., authorizes the Secretary of Transportation to establish regulations for the safe transportation of hazardous materials in intrastate, interstate, and foreign commerce. Specifically, the statute authorizes the Secretary to issue regulations that apply to persons who: (1) Transport hazardous materials in commerce; (2) cause hazardous materials to be transported in commerce; or (3) manufacture, mark, maintain, recondition, repair, or test packagings or containers (or components thereof) that are represented, marked, certified, or sold as qualified for use in the transportation of hazardous materials in commerce. 49 U.S.C. 5103(b)(1)(A). Also, the Secretary has the authority to issue regulations governing any safety aspect of hazardous materials transportation that the Secretary considers appropriate. 49 U.S.C. 5103(b)(1)(B).

The Department's hazardous materials regulations (“HMR”) are found at 49 CFR parts 171-180. Five operating administrations within the Department are responsible for implementing Federal hazmat law and the HMR: the Research and Special Programs Administration, Federal Motor Carrier Safety Administration, Federal Aviation Administration, Federal Railroad Administration; and U.S. Coast Guard. Furthermore, the Secretary recently delegated authority to the Office of Intermodalism to oversee and coordinate cross-modal issues (issues that affect more than one DOT operating administration) and multimodal issues (issues that affect more than one mode of transportation) arising out of the hazardous materials transportation safety program. (See 65 Fed. Reg. 49763, August 15, 2000.)

Congress last authorized the Department's hazardous materials transportation safety program in 1994, amending the existing law to authorize appropriations for fiscal years 1994 through 1997. (See Public Law 103-311, August 26, 1994.) In 1997 and again on February 16, 1999, the Secretary of Transportation sent Congress proposed legislation to reauthorize the Department of Transportation's hazardous materials transportation safety program. Since fiscal year 1998, the Department has received annual appropriations to continue the program.

You can view a variety of documents that describe and provide information about the current hazardous materials safety program at http://hazmat.dot.gov. Documents you may find of interest as you prepare your comments include:

• DOT's 1999 proposed bill plus section-by-section analysis, a red-line/strike-out version of the proposed bill comparing the 1999 proposal to existing law, and a table comparing the 1999 proposal to the existing law and the Administration's 1997 reauthorization proposal (http://hazmat.dot.gov/99reauthact.htm);

• Federal hazmat law (http://hazmat.dot.gov/pubtrain/dotbill.pdf);

• The Hazardous Materials Regulations (http://www.text-trieve.com/dotrspa);

• The 1996-1997 biennial hazardous materials safety program report (http://hazmat.dot.gov/ohmforms.htm#biennial); and

• The March 2000 Hazardous Materials Program Evaluation report (http://hazmat.dot.gov/hmpe.htm).

Copies of these documents may also be obtained by contacting either Ed Bonekemper or Nancy Machado at 202-366-4400.

B. Comments

As we prepare our legislative proposal to reauthorize the Department's hazardous materials transportation safety program, we are looking for ideas on how to improve the effectiveness of this important safety program through statutory changes. We invite the public, state and local governments, industry, labor unions, and other interested parties to submit their ideas and comments to us for review and consideration. Information on how to submit your comments and ideas to us is contained above under the heading, Addresses.

Issued in Washington, DC on January 5, 2001, under authority delegated in 49 CFR Part 1.
Robert A. McGuire,
Associate Administrator for Hazardous Materials Safety.

[FR Doc. 01-763 Filed 1-9-01; 8:45 am]

BILLING CODE 4910-60-P